DEPARTMENT OF HEALTH AND HUMAN SERVICES

Health Resources and Services Administration

National Advisory Council on Migrant Health Request for Nominations for Voting Members

AGENCY: Health Resources and Services Administration, HHS.

ACTION: Notice.

SUMMARY: The Health Resources and Services Administration (HRSA) is requesting nominations to fill vacancies on the National Advisory Council on Migrant (NACMH). The NACMH is authorized under 42 U.S.C. 218, section 217 of the Public Health Service (PHS) Act, as amended and governed by provisions of Public Law 92-463, as amended, (5 U.S.C. Appendix 2).

DATES: The agency will receive nominations on a continuous basis.

ADDRESSES: All nominations should be addressed to the Designated Federal Official, NACMH, Strategic Initiatives and Planning Division, Office of Policy and Program Development, Bureau of Primary Health Care, HRSA, Suite 17C-05, 5600 Fishers Lane, Rockville, Maryland 20857 or via email to: JRodrigue@hrsa.gov and GCate@hrsa.gov.

FOR FURTHER INFORMATION CONTACT: CDR Jacqueline Rodrigue, MSW, Designated Federal Official, NACMH, at (301) 443-1127 or email JRodrigue@hrsa.gov.

SUPPLEMENTARY INFORMATION: As authorized under section 330(g) of the Public Health Service Act, as amended, 42 U.S.C. 254b, the Secretary established the NACMH. The NACMH is governed by the Federal Advisory Committee Act (5 U.S.C. Appendix 2), which sets forth standards for the formation and use of advisory committees.

The NACMH consults with and makes recommendations to the Secretary and the HRSA Administrator, concerning the organization, operation, selection, and funding of migrant health centers and other entities under grants and contracts under section 330 of the PHS Act.

The NACMH shall consist of fifteen members, including the Chair and Vice Chair. The Secretary selects all members of the NACMH. Twelve members are from governing boards of migrant health centers and other entities assisted under section 330 of the PHS Act. Of these twelve members, at least nine shall be chosen from among those members of such centers or grantees and who are familiar with the delivery of health care to migratory and seasonal agricultural workers. The remaining three members are individuals who are qualified by training and experience in the medical sciences or in the administration of health programs. Members shall be appointed for terms of 4 years. New members filling a vacancy that occurred prior to expiration of a term may serve only for the remainder of such term. Members may serve after the expiration of their terms until their successors have taken office, but no longer than 120 days.

Compensation: Members who are not full-time federal employees shall be paid at the rate of $200 per day including travel time, plus per diem and travel expenses in accordance with Standard Government Travel Regulations.

Specifically, HRSA is requesting nominations for:

• Board Member/Patient:A nominee must be a member or member-elect of a governing board of an organization receiving funding under section 330(g) of the PHS Act or of other entity assisted under section 330 of the PHS Act. A board member nominee must also be a patient of the entity that he/she represents. Additionally, a board member nominee must be familiar with the delivery of primary health care to migratory agricultural workers and seasonal agricultural workers and their families.

• Administrator/Provider Representative: A nominee must be qualified by training and experience in the medical sciences or in the administration of health programs.

The Department of Health and Human Services (HHS) will consider nominations of all qualified individuals.

A complete nomination package should include the following information for each nominee:

(1) A NACMH Nomination form; (2) three reference letters; and (3) a biographical sketch of the nominee and a copy of his/her curriculum vitae. The nomination package must also state that the nominee is willing to serve as a member of the NACMH and appears to have no conflict of interest that would preclude membership. An ethics review is conducted for each selected nominee.

HHS strives to ensure that the membership of HHS federal advisory committees is fairly balanced in terms of points of view represented and the committee's function. Every effort is made to ensure that the views of women, all ethnic and racial groups, and people with disabilities are represented on HHS federal advisory committees. The Department also encourages geographic diversity in the composition of the committee. The Department encourages nominations of qualified candidates from all groups and locations. Appointment to the NACMH shall be made without discrimination on the basis of age, race, ethnicity, gender, sexual orientation, disability, and cultural, religious, or socioeconomic status.

Jackie Painter,
Director, Division of the Executive Secretariat.

[FR Doc. 2015-29196 Filed 11-16-15; 8:45 am]

BILLING CODE 4165-15-P